DEPARTMENT OF LABOR

Occupational Safety and Health Administration

[Docket No. NRTL1-89]

Intertek Testing Services NA, Inc.; Application for Expansion of Recognition

AGENCY: Occupational Safety and Health Administration (OSHA), Labor.

ACTION: Notice.

SUMMARY: This notice announces the application of Intertek Testing Services NA, Inc., for expansion of its recognition as a Nationally Recognized Testing Laboratory under 29 CFR 1910.7, and presents the Agency's preliminary finding. This preliminary finding does not constitute an interim or temporary approval of this application. In an unrelated matter, this notice also announces the voluntary withdrawal of recognition of the Intertek Testing Services NA, Inc., site located in Antioch, California.

DATES: You may submit comments in response to the expansion application portion of this notice, or any request for extension of the time to comment, by (1) regular mail, (2) express or overnight delivery service, (3) hand delivery, (4) messenger service, or (5) FAX transmission (facsimile). Because of security-related problems there may be a significant delay in the receipt of comments by regular mail. Comments (or any request for extension of the time to comment) must be submitted by the following dates:

Regular mail and express delivery service: Your comments must be postmarked by July 7, 2003.

Hand delivery and messenger service: Your comments must be received in the OSHA Docket Office by July 7, 2003. OSHA Docket Office and Department of Labor hours of operation are 8:15 a.m. to 4:45 p.m.

Facsimile and electronic transmission: Your comments must be sent by July 7, 2003.

ADDRESSES: Regular mail, express delivery, hand-delivery, and messenger service: You must submit three copies of your comments and attachments to the OSHA Docket Office, Docket NRTL1-89, Room N-2625, U.S. Department of Labor, Occupational Safety and Health Administration, 200 Constitution Avenue, NW., Washington, DC 20210. Please contact the OSHA Docket Office at (202) 693-2350 for information about security procedures concerning the delivery of materials by express delivery, hand delivery and messenger service.

Facsimile: If your comments, including any attachments, are 10 pages or fewer, you may fax them to the OSHA Docket Office at (202) 693-1648. You must include the docket number of this notice, Docket NRTL1-89, in your comments.

Internet access to comments and submissions: OSHA will place comments and submissions in response to this notice on the OSHA Web page www.osha.gov. Accordingly, OSHA cautions you about submitting information of a personal nature (e.g., social security number, date of birth). There may be a lag time between when comments and submissions are received and when they are placed on the Web page. Please contact the OSHA Docket Office at (202) 693-2350 for information about materials not available through the OSHA Web page and for assistance in using the Web page to locate docket submissions. Comments and submissions will also be available for inspection and copying at the OSHA Docket Office at the address above.

Extension of Comment Period: Submit requests for extensions concerning this notice to: Office of Technical Programs and Coordination Activities, NRTL Program, Occupational Safety and Health Administration, U.S. Department of Labor, Room N3653, 200 Constitution Avenue, NW., Washington, DC 20210. Or fax to (202) 693-1644.

FOR FURTHER INFORMATION CONTACT: Sherrey Nicolas or Bernard Pasquet, Office of Technical Programs and Coordination Activities, NRTL Program, Room N3653 at the address shown immediately above for the program, or phone (202) 693-2110.

SUPPLEMENTARY INFORMATION:

Notice of Application

The Occupational Safety and Health Administration (OSHA) hereby gives notice that Intertek Testing Services NA, Inc. (ITSNA), has applied for expansion of its recognition as a Nationally Recognized Testing Laboratory (NRTL). ITSNA's expansion request covers the use of additional test standards. OSHA's current scope of recognition for ITSNA may be found in the following informational Web page: http://www.osha-slc.gov/dts/otpca/nrtl/its.html.

OSHA recognition of any NRTL signifies that the organization has met the legal requirements in 1910.7 of title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications for initial recognition or for expansion or renewal of this recognition following requirements in Appendix A to 29 CFR 1910.7. This appendix requires that the Agency publish two notices in the Federal Register in processing an application. In the first notice, OSHA announces the application and provides its preliminary finding and, in the second notice, the Agency provides its final decision on an application. These notices set forth the NRTL's scope of recognition or modifications of this scope. We maintain an informational Web page for each NRTL, which details its scope of recognition. These pages can be accessed from our Web site at http://www.osha-slc.gov/dts/otpca/nrtl/index.html.

The most recent notices published by OSHA for ITSNA's recognition covered an expansion of recognition, which became effective on March 25, 2003 (68 FR 14430).

The current address of the ITSNA facilities already recognized by OSHA are:

ITSNA Atlanta, 1950 Evergreen Blvd., Suite 100, Duluth, Georgia 30096

ITSNA Boxborough, 70 Codman Hill Road, Boxborough, Massachusetts 01719

ITSNA Cortland, 3933 U.S. Route 11, Cortland, New York 13045

ITSNA Lexington, 731 Enterprise Drive, Lexington, Kentucky 40510

ITSNA Los Angeles, 27611 LaPaz Road, Suite C, Laguna Niguel, California 92677

ITSNA Madison, 8431 Murphy Drive, Middleton, Wisconsin 53562

ITSNA Minneapolis, 7250 Hudson Blvd., Suite 100, Oakdale, Minnesota 55128

ITSNA San Francisco, 1365 Adams Court, Menlo Park, CA 94025

ITSNA Sweden AB, Box 1103, S-164 #22, Kista, Stockholm, Sweden

ITSNA Totowa, 40 Commerce Way, Unit B, Totowa, New Jersey 07512

ITSNA Vancouver, 211 Schoolhouse Street, Coquitlam, British Columbia, V3K 4X9 Canada

ITSNA Hong Kong, 2/F., Garment Centre, 576 Castle Peak Road, Kowloon, Hong Kong

ITSNA Taiwan, 14/F., Huei Fung Building, 27, Chung Shan North Road, Sec. 3, Taipei 10451, Taiwan

As addressed later in this notice, one site is being withdrawn from recognition and is excluded from the listing of sites above.

General Background on the Application

ITSNA has submitted an application, dated June 3, 2002 (see Exhibit 43), to expand its recognition to use 141 additional test standards. The NRTL Program staff has determined that 94 of the 141 test standards cannot be included in the expansion because they either are not “appropriate test standards,” within the meaning of 29 CFR 1910.7(c), or are already included in ITSNA's scope. The staff makes similar determinations in processing expansion requests from any NRTL. Therefore, OSHA would approve 47 test standards for the expansion, which are listed below. Processing of this request was delayed by OSHA, in part, through no fault of the NRTL.

ITSNA seeks recognition for testing and certification of products for demonstration of conformance to the following 47 additional test standards.

ANSI Z21.69 Connectors for Movable Gas Appliances

ANSI Z21.86 Vented Gas-Fired Space Heating Appliance

ANSI Z21.88 Vented Gas Fireplace Heaters

UL 6A Electrical Rigid Metal Conduit—Aluminum, Bronze, and Stainless Steel

ANSI/NFP 11 Low Expansion Foam and Combined Agent Systems

ANSI/NFPA 11A Medium- and High-Expansion Foam Systems

ANSI/NFPA 12 Carbon Dioxide Extinguishing Systems

ANSI/NFPA 12A Halon 1301 Fire Extinguishing Agent Systems

ANSI/NFPA 17 Dry Chemical Extinguishing Systems

ANSI/NFPA 20 Installation of Stationary Pumps for Fire Protection

UL 497C Protectors for Coaxial Communications Circuits

UL 498A Current Taps and Adapters

UL 508A Industrial Control Equipment

UL 514D Cover Plates for Flush-Mounted Wiring Devices

UL 536 Flexible Metallic Hose

UL 698A Industrial Control Panels Relating to Hazardous (Classified) Locations

UL 789 Indicator Posts for Fire-Protection Service

UL 797A Electrical Metallic Tubing—Aluminum

UL 963 Sealing, Wrapping, and Marking Equipment

UL 1425 Cables for Non-Power-Limited Fire-Alarm Circuits

UL 1434 Thermistor-Type Devices

UL 1653 Electrical Nonmetallic Tubing

UL 1655 Community-Antenna Television Cables

UL 1682 Plugs, Receptacles, and Cable Connectors, of the Pin and Sleeve Type

UL 1699 Arc-Fault Circuit-Interrupters

UL 1741 Inverters, Converters, and Controllers for Use in Independent Power Systems

UL 1887 Fire Test of Plastic Sprinkler Pipe for Flame and Smoke Characteristics

UL 2017 ¹ General Purpose Signaling Devices and Systems

UL 2089 ² Vehicle Battery Adapters

UL 2125 Motor-Operated Air Compressors for Use in Sprinkler Systems

UL 2127 Inert Gas Clean Agent Extinguishing System Unit

UL 2166 Halocarbon Clean Agent Extinguishing System Units

UL 2202 Electric Vehicle (EV) Charging System Equipment

UL 2227 Overfilling Prevention Devices

UL 60335-2-34 Household and Similar Electrical Appliances, Part 2; Particular Requirements for Motor-Compressors

UL 60730-2-4 Automatic Electrical Controls for Household and Similar Use; Part 2: Particular Requirements for Thermal Motor Protectors for Motor Compressors or Hermetic and Semi-Hermetic Type

UL 60730-2-9 Automatic Electrical Controls for Household and Similar Use; Part 2: Particular Requirements for Temperature Sensing Controls

UL 60730-2-6 Automatic Electrical Controls for Household and Similar Use; Part 2: Particular Requirements for Automatic Electrical Pressure Sensing Controls Including Mechanical Requirements

UL 60730-2-10A Automatic Electrical Controls for Household and Similar Use; Part 2: Particular Requirements for Electrically-Operated Motor Starting Relays

UL 60730-2-11A Automatic Electrical Controls for Household and Similar Use; Part 2: Particular Requirements for Energy Regulators

UL 60730-2-12A Automatic Electrical Controls for Household and Similar Use; Part 2: Particular Requirements for Electrically-Operated Doors

UL 60730-2-13A Automatic Electrical Controls for Household and Similar Use; Part 2: Particular Requirements for Humidity Sensing Controls

UL 60730-2-14 Automatic Electrical Controls for Household and Similar Use; Part 2: Particular Requirements for Electric Actuators

UL 61010A-2-020 Electrical Equipment for Laboratory Use; Part 2: Particular Requirements for Laboratory Centrifuges

UL 61010C-1 Process Control Equipment

UL 61058-1 Switch for Appliances

¹ This standard is approved for testing and certification of vehicle battery adaptors for use within recreational vehicles and mobile homes.

² Limited to electrical portions only.

Note: Testing and certification of gas operated equipment is limited to equipment for use with “liquefied petroleum gas” (“LPG” or “LP-Gas”).

OSHA's recognition of ITSNA, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization (e.g., UL 536) for the standard, as opposed to the ANSI designation (e.g., ANSI/UL 536). Under our procedures, any NRTL recognized for an ANSI-approved test standard may use either the latest proprietary version of the test standard or the latest ANSI version of that standard. (Contact ANSI or the ANSI Web site (http://www.ansi.org) and click “NSSN” to find out whether or not a test standard is currently ANSI-approved.)

Existing Conditions

Currently, OSHA imposes the following conditions on its recognition of ITSNA. These conditions would apply also to this current expansion. As mentioned in previous notices, these conditions apply solely to ITSNA's NRTL operations and are in addition to any other condition that OSHA normally imposes in its recognition of an organization as an NRTL. These conditions are listed in this notice mainly for information.

(1) ITSNA may perform safety testing for hazardous location products only at the specific ITSNA sites that OSHA has recognized, and that have been pre-qualified for such testing by the ITSNA Chief Engineer. In addition, all safety test reports for hazardous location products must undergo a documented review and approval at the Cortland testing facility by a test engineer qualified in hazardous location safety testing, prior to ITSNA's initial or continued authorization of the certifications covered by these reports.

(2) ITSNA may not test and certify any products for a client that is a manufacturer or vendor that is either owned in excess of 2% by ITSLtd or affiliated organizationally with ITSNA.

Preliminary Finding

ITSNA has submitted an acceptable request for expansion of its recognition. As previously mentioned, in connection with the request, OSHA did not perform an on-site review (evaluation) of ITSNA. However, an OSHA NRTL Program assessor reviewed information pertinent to this request and recommended that ITSNA be granted the expansion (see Exhibit 45).

Following a review of the application file, the assessor's recommendation, and other pertinent information, the NRTL Program staff has concluded that OSHA can grant to ITSNA the expansion of recognition to include the test standards listed above, subject to the conditions as noted. The staff therefore recommended to the Assistant Secretary that the application be preliminarily approved.

Based upon the recommendations of the staff, the Assistant Secretary has made a preliminary finding that Intertek Testing Services NA, Inc., can meet the requirements as prescribed by 29 CFR 1910.7 for the expansion of recognition, subject to the above conditions. This preliminary finding, however, does not constitute an interim or temporary approval of the applications for ITSNA.

OSHA welcomes public comments, in sufficient detail, as to whether ITSNA has met the requirements of 29 CFR 1910.7 for expansion of its recognition as a Nationally Recognized Testing Laboratory. Your comments should consist of pertinent written documents and exhibits. To consider a comment, OSHA must receive it at the address provided above (see ADDRESSES), no later than the last date for comments (see DATES above). Should you need more time to comment, OSHA must receive your written request for extension at the address provided above no later than the last date for comments. You must include your reason(s) for any request for extension. OSHA will limit any extension to 30 days, unless the requester justifies a longer period. We may deny a request for extension if it is frivolous or otherwise unwarranted. You may obtain or review copies of ITSNA's request, the on-site review report, and all submitted comments, as received, by contacting the Docket Office, Room N2625, Occupational Safety and Health Administration, U.S. Department of Labor, at the above address. Docket No. NRTL1-89 contains all materials in the record concerning ITSNA's application.

The NRTL Program staff will review all timely comments and, after resolution of issues raised by these comments, will recommend whether to grant ITSNA's expansion request. The Assistant Secretary will make the final decision on granting the expansion, and in making this decision, may undertake other proceedings that are prescribed in Appendix A to 29 CFR 1910.7. OSHA will publish a public notice of this final decision in the Federal Register.

Notice of Voluntary Termination

ITSNA has requested that OSHA withdraw the recognition of the NRTL's site located in Antioch, California (see Exhibit 44). This withdrawal is effective immediately, and OSHA will take no further action on it. OSHA recognized this site for ITSNA on December 1, 1997 (62 FR 63562), although at the time it was located in Pittsburg, California. Under section II.D of Appendix A to 29 CFR 1910.7, OSHA must “inform the public of any voluntary termination by Federal Register notice.” This action is unrelated to our preliminary finding on the ITSNA expansion request. We include it herein only for convenience in processing.

Signed at Washington, DC, this 11th day of June, 2003.
John L. Henshaw,
Assistant Secretary.

[FR Doc. 03-15632 Filed 6-19-03; 8:45 am]

BILLING CODE 4510-26-P